DEPARTMENT OF THE INTERIOR

Bureau of Land Management

[OR-025-02-1430-EU: GP0-0086]

Realty Action: Direct Sale of Public Land in Harney County, OR

AGENCY: Bureau of Land Management (BLM), Burns District.

ACTION: Notice of Realty Action, Direct Sale of Public Land, OR-56570.

SUMMARY: The following described public land in Harney County, Oregon, has been examined and found suitable for sale under Sections 203 and 209 of the Federal Land Policy and Management Act of 1976 (90 Stat. 2750, 43 U.S.C. 1713 and 1719), at not less than the appraised market value:

Willamette Meridian

T. 20 S., R. 36 E.,

sec. 3, W½NW¼SW¼NW¼, S½SW¼NW¼.

The area described contains 25 acres, more or less in Harney County, Oregon. The appraised market value for this parcel has been determined to be $5000.

This land is being considered for direct sale to the adjacent landowners, Tom and Kathleen Turner, to resolve a long-term, inadvertent, unauthorized occupancy of the public land. The encroachment involves outbuildings, fences, equipment storage, and other uses associated with the adjacent Turner Ranch headquarters that were inadvertently placed on public land many years ago prior to the Turner's ownership of the ranch. The parcel is the minimum size possible to ensure that all of the encroachments are included while utilizing an aliquot part description to avoid the need for an expensive land survey.

In accordance with 43 CFR 2710.0-6(c)(3)(iii) direct sale procedures are appropriate to resolve an inadvertent unauthorized occupancy of the land and to protect existing equities in the land.

The Turners will be allowed 30 days from receipt of a written offer to submit a deposit of at least 20 percent of the appraised market value of the parcel, plus administrative costs and 180 days thereafter to submit the balance. Federal regulations describe procedures to address unauthorized use which include provisions to reimburse BLM for administrative costs.

The following rights, reservations, and conditions will be included in the patent conveying the land:

1. A reservation to the United States for a right-of-way for ditches and canals constructed by the authority of the United States, Act of August 30, 1890 (43 U.S.C. 945).

2. A right-of-way for buried communication cable purposes granted to CenturyTel of Oregon, Inc., its successors or assigns, by right-of-way No. OR 54973, pursuant to the Act of October 21, 1976 (43 U.S.C. 1761).

3. A right-of-way for public road and highway purposes granted to Harney County, its successors or assigns, by right-of-way No. OR 57062, pursuant to the Act of October 21, 1976 (43 U.S.C. 1761), as amended.

The patent would also include a notice and indemnification statement under the Comprehensive Environmental Response, Compensation and Liability Act (42 U.S.C. Section 9620) holding the United States harmless from any release of hazardous materials that may have occurred as a result of the unauthorized use of the property by other parties.

A successful bid constitutes an application for conveyance of the mineral interests also being offered under the authority of section 209(b) of the Federal Land Policy and Management Act of 1976. In addition to the full purchase price, a nonrefundable fee of $50 will be required from the prospective purchaser for purchase of the mineral interests to be conveyed simultaneously with the sale of the land.

The land described is segregated from appropriation under the public land laws, including the mining laws, pending disposition of this action or 270 days from the date of publication of this notice, whichever occurs first.

DATES: This office has prepared Documentation of Land Use Plan Conformance and National Environmental Policy Act Adequacy to evaluate the proposal. On or before 45 days from the date of publication in the Federal Register interested persons may submit written comments. In the absence of any objections, this proposal will become the determination of the Department of the Interior.

ADDRESSES: Written comments should be submitted to the Joan Suther, Three Rivers Resource Area Field Manager, 28910 Hwy 20 West, Hines, Oregon 97738.

FOR FURTHER INFORMATION CONTACT: Detailed information concerning this land sale is available from Skip Renchler, Realty Specialist at the above address, phone (541) 573-4443.

Dated: February 12, 2003.
Joan M. Suther,
Three Rivers Resource Area Field Manager.

[FR Doc. 03-7169 Filed 3-25-03; 8:45 am]

BILLING CODE 4310-33-P